FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 13, 2012. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B. Herman, Federal Communications Commission, via the Internet at judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0531.

Title: Sections 101.1011, 101.1325(b), 101.1327(a), 101.527, 101.529 and 101.103—Substantial Service Showing for LMDS, 24 GHz and MAS.

Form Number: N/A.

Type of Review: Extension of a currently approved collection.

Respondents: Business or other for-profit entities; Not-for-profit institutions; and State, Local, or Tribal Government.

Number of Respondents: 1,114 respondents; 1,114 responses.

Estimated Time per Response: 2-15 hours.

Frequency of Response: On occasion and once every decade reporting requirement and third party disclosure requirement.

Obligation to Respond: Required to obtain or retain benefits. Statutory authority for this information collection is contained in 47 U.S.C. Sections 4(i), 303(c), 303(f), 303(g), 303(r) and 309(j) of the Communications Act of 1934, as amended.

Total Annual Burden: 3,541 hours.

Total Annual Cost: $462,000.

Privacy Impact Assessment: N/A.

Nature and Extent of Confidentiality: There is no need for confidentiality.

Needs and Uses: The Commission is seeking OMB approval for an extension of this information collection in order to obtain the full three year approval from them. There are no changes to the reporting and/or third party disclosure requirements. The Commission is reporting a change to their 2009 burden estimates. The Commission has reduced the total annual burden hours by 720 hours because there are fewer licenses subject to the substantial service requirement; in LMDS there are over 100 licenses that have met substantial service and will not be subject to that requirement again until 2018 and in MAS, the number of responses are reduced due to the cancellation of a large number of licenses. This resulted in an adjustment decrease of 360 responses based on a number of licensees having met their substantial service requirements, and revised burden estimates based on review of the data made over the last three years. The cost adjustment is an increase of $93,000 reflects the number of estimated responses and updated estimates of the costs involved.

Section 101.1011 requires that Local Multipoint Distribution Service (LMDS) must make a showing of substantial service in their license area within 10 years of being licensed. A licensee must demonstrate that it provided service which is sound, favorable, and substantially above a level of mediocre service which might minimally warrant renewal.

Section 101.1325(b) requires that Multiple Address System (MAS) licensees must make a showing of substantial service in their license area within ten years of being licensed.

Section 101.1327(a) requires that in order to receive a renewal expectancy at renewal time, a MAS licensee must demonstrate that it provided service which is sound, favorable, and substantially above a level of mediocre service which might minimally warrant renewal. MAS licensees must also demonstrate that they have substantially complied with applicable Commission rules, policies, and the Communications Act; provide a record of the licensee's record of expansion, and provide a description of investments it has made in its system.

Section 101.527 requires that 24 GHz licensees must make a showing of substantial service in their license area within 10 years of being licensed.

Section 101.529 requires that in order to receive a renewal expectancy at renewal time, a 24 GHz licensee must demonstrate that it provided substantial service. 24 GHz licensees must also provide copies of all FCC orders finding the licensee to have violated the Communications Act or any FCC rule or policy, and a list of any pending proceeding relating to any such possible violation.

Section 101.103 requires that LMDS licensees coordinate proposed operations with existing licensees, permittees, and applicants in the proposed area of operation. Coordination consists of notification by the licensee of its proposed operations, and a response by neighboring licensees, permittees, and applicants stating whether any interference is predicted. The coordination requirements set forth in the Commission's rules remains unchanged, and this submission does not seek to revise those requirements or the estimated burdens relating to that rule.

Federal Communications Commission.
Marlene H. Dortch,
Secretary, Office of the Secretary, Office of Managing Director.

[FR Doc. 2012-14230 Filed 6-11-12; 8:45 am]

BILLING CODE 6712-01-P